DEPARTMENT OF TRANSPORTATION

Federal Railroad Administration

[Docket Number FRA-2001-9717]

Petition for Waiver of Compliance

In accordance with Part 211 of Title 49 Code of Federal Regulations (CFR), this document provides the public notice that by a document dated February 22, 2011, the Little Kanawha River Railroad (LKRR), a division of Marietta Industrial Enterprises, Inc., has petitioned the Federal Railroad Administration (FRA) for an extension of a waiver of compliance from certain provisions of the Federal railroad safety regulations regarding safety glazing contained at 49 CFR Part 223. FRA assigned the petition Docket Number FRA-2001-9717.

LKRR seeks to extend a waiver of compliance for one locomotive, specifically, one 1955 General Motors' Electro-Motive Division Model SW-1200, Number LKRR 1205, from 49 CFR Section 223.11, Requirements for existing locomotives. FRA issued the initial waiver that granted LKRR relief on May 20, 2002, and FRA extended the waiver on August 7, 2006.

The current glazing that is installed in the locomotive has no identifying marks. LKRR states that it operates on 1.75 miles of level track at speeds not exceeding 10 mph, as a yard-type system. LKRR interchanges directly with the CSX Corporation (CSX), and it is a shortline operation that only moves CSX cars for loading and unloading. LKRR states that it operates in a secure area and there have been no known incidents of broken windows as a result of vandalism and, therefore, no resulting worker injuries have occurred due to broken glass from the locomotive's windows. LKRR is requesting an extension of relief on account of the prohibitive cost involved in retrofitting the locomotive with certified glazing.

A copy of the petition, as well as any written communications concerning the petition, is available for review online at www.regulations.gov and in person at the U.S. Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by April 12, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on February 21, 2013.
Robert C. Lauby,
Deputy Associate Administrator for Regulatory and Legislative Operations.

[FR Doc. 2013-04382 Filed 2-25-13; 8:45 am]

BILLING CODE 4910-06-P